NUCLEAR REGULATORY COMMISSION

[NRC-2020-0194]

Development of NRC's Strategic Plan for Fiscal Years 2022 Through 2026

AGENCY: Nuclear Regulatory Commission.

ACTION: Request for comment; public meeting.

SUMMARY: The U.S. Nuclear Regulatory Commission (NRC) is requesting comments on its update of the NRC's Fiscal Years (FYs) 2022-2026 Strategic Plan. Specifically, the NRC would like input on the agency's strategic goals, actions to realize those goals, and how to address key challenges and external factors as described in the current agency's Strategic Plan, NUREG 1614, Volume 7, “Strategic Plan Fiscal Years 2018-2022.” The information will be used to inform the development of the NRC's FYs 2022-2026 Strategic Plan framework and evidence building and evaluation activities.

DATES: Submit comments by October 13, 2020. Comments received after this date will be considered if it is practical to do so, but the Commission is able to ensure consideration only for comments received before this date. Furthermore, the NRC staff will hold a public webinar on September 22, 2020, to receive comments on the upcoming update of the NRC's FYs 2022-2026 Strategic Plan.

ADDRESSES: You may submit comments by any of the following methods:

• Federal Rulemaking Website: Go to https://www.regulations.gov and search for Docket ID NRC-2020-0194. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Branch.

For additional direction on obtaining information and submitting comments, see “Obtaining Information and Submitting Comments” in the SUPPLEMENTARY INFORMATION section of this document.

FOR FURTHER INFORMATION CONTACT: Carla Roque-Cruz, Office of the Executive Director for Operations, telephone: 301-415-1455, email: Carla.Roque-Cruz@nrc.gov, U.S. Nuclear Regulatory Commission, Washington, DC 20555-0001.

SUPPLEMENTARY INFORMATION:

I. Obtaining Information and Submitting Comments

A. Obtaining Information

Please refer to Docket ID NRC-2020-0194, when contacting the NRC about the information for this action. You may obtain publicly-available information related to this action by any of the following methods:

• Federal Rulemaking Website: Go to https://www.regulations.gov and search for Docket ID NRC-2020-0194.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

B. Submitting Comments

Please include Docket ID NRC-2020-0194 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is an independent agency established by the Energy Reorganization Act of 1974 that began operations in 1975 as a successor to the licensing and regulatory activities of the Atomic Energy Commission. The NRC's mission is to license and regulate the Nation's civilian use of radioactive materials to provide reasonable assurance of adequate protection of public health and safety and to promote the common defense and security and to protect the environment. In accordance with the Government Performance and Results (GPRA) Modernization Act of 2010, the NRC is required to submit its Strategic Plan to Congress the year following the start of a presidential term.

The Strategic Plan describes how the agency intends to achieve its two strategic goals: (1) Ensure the safe use of radioactive materials, and (2) ensure the secure use of radioactive materials. The plan provides an overview of the NRC's responsibilities and lays out the objectives, strategies, and key activities that will be used to achieve the agency's strategic goals. Moreover, with enactment of the Foundations for Evidence-Based Policymaking Act of 2018 (“Evidence Act”) (5 U.S.C. 312), agency strategic plans are to be supported by the inclusion of a Learning Agenda (i.e., Evidence-Building Plan), which describes the activities agencies will undertake to answer important short-and-long term strategic and operational questions important to achieving the agency's mission. The Evidence Act also requires agencies to conduct and include in their strategic plan's a capacity assessment that will help agencies to assess their ability and infrastructure to carry out evidence building activities like foundational fact finding, performance measurement, policy analysis, and program evaluation, and identifying the data needed to answer those questions.

During the last few years, the NRC has been transforming in order to realize its vision of becoming a modern, risk-informed regulator and be in the best position to continue meeting its important safety and security mission well into the future. Transformation activities will help the NRC keep pace with the highly dynamic, interconnected environment in which it operates, and be prepared to regulate an industry that is innovative and pursuing technologies.

III. Specific Request for Comment

The NRC is interested in obtaining input from stakeholders, including professional organizations and interested individuals. The focus of this request is to gather information that will permit the NRC staff to develop the FYs 2022-2026 Strategic Plan framework.

The NRC does not intend to provide any responses to comments received during the public meeting. The public meeting will be noticed on the NRC's public meeting website at least 10 calendar days before the meeting. Members of the public should monitor the NRC's public meeting website at http://www.nrc.gov/public-involve/public-meetings/index.cfm.

The NRC will also post the meeting notice on the Federal Rulemaking website at http://www.regulations.gov under Docket ID NRC-2020-0194.

IV. Requested Information and Comments

The NRC is asking the public to comment on potential changes to the NRC's goals, objectives, strategies contributing activities as described in the current FYs 2018-2022 Strategic Plan, and the requirements of the Evidence Act as discussed in Section II of this document. The NRC welcomes comments from the public on any areas that they believe are relevant to these topics, and is particularly interested in receiving input on the following questions:

1. Do you have any specific recommendations or improvements to consider in the development of the FYs 2022-2026 Strategic Plan?

2. What goals, objectives, or strategies within the NRC's current strategic plan should be added, enhanced, or modified in the FYs 2022-2026 Strategic Plan?

3. What contributing activities should be considered to support the safety and security goals, strategies, and objectives?

4. What external factors, opportunities and challenges should be considered during the development of the FYs 2022-2026 Strategic Plan?

5. As part of the Evidence Act, the NRC will include a learning agenda in the FYs 2022-2026 Strategic Plan. A learning agenda is a systematic plan for identifying and addressing policy questions relevant to the NRC's programs, policies, operations, and regulations. The learning agenda will describe the plan for building evidence to address agency priority questions. What priority question(s) (short- or long-term) do you believe the NRC should be asking within the learning agenda?

6. What improvements can the NRC make in regard to evidence building (e.g., data, analysis, evaluations) to inform strategy, policymaking, program decisions, and regulations?

V. Public Meeting Information

The NRC staff will hold a public webinar on September 22, 2020, to receive comments on the update of the NRC's FYs 2022-2026 Strategic Plan. Additionally, the NRC will discuss the Agency's transformation activities for public input and comment on these activities and continue to seek the views of stakeholders in identifying opportunities to improve the agency's processes, procedures, and products. The webinar will be held online and will offer a telephone line for members of the public to submit comments. A court reporter will be recording all comments received during the webinar. The date and time for the webinar is as follows:

Date | Time | Location
9/22/2020 | 1:00 p.m. to 4:00 p.m. (EDT) | Webinar Information: Webinar address: https://usnrc.webex.com/usnrc/onstage/g.php?MTID=edb8d9854a356d1c13bfc4f1339244bd1.
|  | Telephone Access: Bridgeline: 800-369-1713 Participant Passcode: 5805934.

Persons interested in attending this meeting should monitor the NRC's Public Meeting Schedule website at https://www.nrc.gov/pmns/mtg for additional information, the meeting agenda, information on how to provide verbal comments, and access information for the meeting. Participants should register in advance of the meeting by visiting https://usnrc.webex.com and using the event number provided above. A confirmation email will be generated providing additional details and a link to the meeting. Those wishing to make verbal comments at the meeting should follow instructions listed on the NRC's Public Meeting Schedule website.

The NRC may post additional materials related to this document, including public comments, on the Federal Rulemaking website. The Federal Rulemaking website allows you to receive alerts when changes or additions occur in a docket folder. To subscribe: (1) Navigate to the docket folder (NRC-2020-0194); (2) click the “Sign up for Email Alerts” link; and (3) enter your email address and select how frequently you would like to receive emails (daily, weekly, or monthly).

Dated: September 4, 2020.
For the Nuclear Regulatory Commission.
Margaret M. Doane,
Executive Director for Operations.

[FR Doc. 2020-20048 Filed 9-10-20; 8:45 am]

BILLING CODE 7590-01-P